DEPARTMENT OF THE INTERIOR

Fish and Wildlife Service

Issuance of Permit for Marine Mammals

On, January 6, 2000 a notice was published in the Federal Register, Vol. 65, No.4, Page 787, that an application had been filed with the Fish and Wildlife Service by Toledo Zoological Gardens, Toledo, OH, for a permit (PRT-014704) to import one captive born polar bear (Ursus maritimus) for the purpose of public display.

Notice is hereby given that on March 16, 2000, as authorized by the provisions of the Marine Mammal Protection Act of 1972, as amended (16 U.S.C. 1361 et seq.) the Fish and Wildlife Service authorized the requested permit subject to certain conditions set forth therein.

Dated: April 7, 2000.
Kristen Nelson,
Chief, Branch of Permits, Office of Management Authority.

[FR Doc. 00-9139 Filed 4-12-00; 8:45 am]

BILLING CODE 4310-55-P